TENNESSEE VALLEY AUTHORITY

Meeting of the Regional Resource Stewardship Council

AGENCY: Tennessee Valley Authority (TVA).

ACTION: Notice of meeting.

SUMMARY: The TVA Regional Resource Stewardship Council (RRSC) will hold a meeting on Wednesday, April 8, and Thursday, April 9, 2015, to consider various matters.

The RRSC was established to advise TVA on its natural resource stewardship activities. Notice of this meeting is given under the Federal Advisory Committee Act (FACA), 5 U.S.C. App. 2.

The meeting agenda includes the following:

1. Introductions

2. Updates on Natural Resources issues

3. Presentations regarding Floating Houses, TVA's Natural Resource Plan, and other stewardship initiatives

4. Public Comments

5. Council Discussion and Advice

The RRSC will hear opinions and views of citizens by providing a public comment session starting at 9 a.m., CDT, on Thursday, April 9. Persons wishing to speak are requested to register at the door by 8:30 a.m. CDT on Thursday, April 9 and will be called on during the public comment period. Handout materials should be limited to one printed page. Written comments are also invited and may be mailed to the Regional Resource Stewardship Council, Tennessee Valley Authority, 400 West Summit Hill Drive, WT-9 D, Knoxville, Tennessee 37902.

DATES: The public meeting will be held on Wednesday, April 8, from 8:00 a.m. to noon, and Thursday, April 9, from 8 a.m. to 11:45 a.m. CDT.

ADDRESSES: The meeting will be held at the Marriott Shoals Hotel, 10 Hightower Place, Florence, AL 35630 and will be open to the public. Anyone needing special access or accommodations should let the contact below know at least a week in advance.

FOR FURTHER INFORMATION CONTACT: Beth Keel, 400 West Summit Hill Drive, WT-9 D, Knoxville, Tennessee 37902, (865) 632-6113.

Dated: March 12, 2015.
Joseph J. Hoagland,
Vice President, Stakeholder Relations, Tennessee Valley Authority.

[FR Doc. 2015-06293 Filed 3-18-15; 8:45 am]

BILLING CODE 8120-08-P